DEPARTMENT OF AGRICULTURE

Forest Service

Information Collection; Significant Cave Nomination Application

AGENCY: Forest Service, Agriculture (USDA).

ACTION: Notice; request for comment.

SUMMARY: In accordance with the Paperwork Reduction Act of 1995, the Forest Service is seeking comments from all interested individuals and organizations on the extension without change to a currently approved collection information collection, Significant Cave Nominations under the Federal Cave Resources Protection Act.

DATES: Comments must be received in writing on or before December 27, 2024 to be assured of consideration. Comments received after that date will be considered to the extent practicable.

ADDRESSES: Comments concerning this notice should be addressed to Limaris Soto, Lands, Minerals, and Geology, 1617 Cole Boulevard, Building 17, Lakewood CO 80401. Comments also may be submitted via facsimile to 303-275-5122 or by email to limaris.soto@usda.gov.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at 1617 Cole Boulevard, Building 17, Lakewood, CO 80401, during normal business hours. Visitors are encouraged to call ahead to 720-827-8912 to facilitate entry to the building. The public may request an electronic copy of the draft supporting statement and/or any comments received be sent via return email. Requests should be emailed to limaris.soto@usda.gov.

FOR FURTHER INFORMATION CONTACT: Limaris Soto, Lands, Minerals, and Geology, by phone at 720-827-8912 or email to limaris.soto@usda.gov. Individuals who use telecommunications devices for the deaf and hard of hearing may call 711 to reach the Telecommunications Relay Service, 24 hours a day, every day of the year, including holidays.

SUPPLEMENTARY INFORMATION:

Title: Significant Cave Nomination Application.

OMB Number: 0596-0244.

Expiration Date of Approval: December 31, 2024.

Type of Request: Extension without change to a currently approved collection.

Abstract: The information covered in this request applies to caves on Federal lands administered by the U.S. Department of Agriculture, Forest Service. The Forest Service proposes to collect the information in this request in accordance with the Federal Cave Resources Protection Act (FCRPA) [Pub. L. 100-691, 107 Stat. 4546] and regulations at 36 CFR 290 (Cave Resources Management) which require the Secretary of Agriculture to identify and protect significant caves on National Forest System lands.

The Forest Service must collect this information to comply with the FCRPA (16 U.S.C. 4301-4310) and its implementing regulations at 36 CFR 290 that contain criteria for the identification of significant caves. The information collection is also responsive to requirements of the 36 CFR part 290—Cave Management regulations that specify the process for nomination of significant caves and assessment of whether the listed criteria for a cave to be considered significant have been met. 36 CFR 290.3(a) states that significant cave nominations will be accepted by the Forest Supervisor where the cave is located.

The Forest Service uses the information in a cave nomination to determine if specified criteria are met for the nominated cave to be listed as significant in accordance with the FCRPA and regulations at 36 CFR 290.3. The information is necessary for full compliance with agencies' responsibilities to identify and protect significant caves and their resources. Nominations are voluntary. The information collected in the Significant Cave Nomination Worksheet includes:

• The name, address, and telephone number of the individual or organization submitting the nomination. This allows us to confirm the source of the information;

• The name of the cave, which is necessary for the listing of caves and to ensure there are no duplications;

• The location of the cave, which is essential for verification, management, and future planning purposes;

• The name of the agency and the administrative unit, which is necessary to ensure that the application is forwarded to the appropriate agency office;

• A discussion of how the cave meets the criteria, which is the key aspect of the nomination, and is used to determine whether the cave should be designated as significant;

• Studies, maps, research papers, and other supporting documentation, which are important in the significance evaluation;

• The name, address, and telephone number of the individual who is knowledgeable about the resources in the cave, which are necessary in case the information in the nomination is unclear or there is a need for additional information to complete the evaluation;

• The date that the nomination is submitted, which is essential for tracking purposes; and

• The signature and title of the individual submitting the nomination, which is necessary to confirm that it is an official nomination.

The Forest Service collects the information from anyone who wishes to nominate a cave to be considered significant. Caves can be nominated by the public, Forest Service partners, other government agencies, and Forest Service staff. The information collected is used to determine whether a nominated cave meets specified criteria to be considered significant per the FCRPA and 36 CFR 290.

Forest Service Manual 2880.43 states that the Forest Supervisor must ensure that all caves within their jurisdictions are evaluated in accordance with the FCRPA and 36 CFR 290 and make a determination of significant caves nominated for such designation. Under the FCRPA the Secretary shall request that the list of significant caves shall be updated periodically, after consultation with appropriate private sector interest, including cavers. If agencies did not collect cave nominations, they might not become aware of potentially significant caves' existence or might have insufficient information upon which to base a judgment as to their significance. As a result, it is likely that agencies would not be able to comply fully with their statutory responsibilities to identify and protect significant caves and their resources. The information is collected on occasion, which is the minimum frequency necessary to comply with the statute.

Affected Public: Individuals and Households.

Estimate of Burden per Response: 11 hours.

Estimated Annual Number of Respondents: 10.

Estimated Annual Number of Responses per Respondent: 1.

Estimated Total Annual Burden on Respondents: 110.

Comment Is Invited

Comment is invited on: (1) whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Christopher French,
Deputy Chief for National Forest System.

[FR Doc. 2024-24996 Filed 10-25-24; 8:45 am]

BILLING CODE 3411-15-P